ENVIRONMENTAL PROTECTION AGENCY

[ER-FRL-8597-4]

Environmental Impacts Statements; Notice of Availability

Responsible Agency: Office of Federal Activities, General Information (202) 564-1399 or http://www.epa.gov/compliance/nepa/.

Weekly receipt of Environmental Impact Statements

Filed 09/07/2009 Through 09/11/2009

Pursuant to 40 CFR 1506.9.

EIS No. 20090320, Draft EIS, AFS, OR, EXF Thinning, Fuel Reduction, and Research Project, Proposal for Vegetation Management and Fuel Reduction within the Lookout Mountain Unit of the Pringle Falls Experimental Forest, Bend/Ft. Rock Ranger District, Deschutes National Forest, Deschutes County, OR, Comment Period Ends: 11/02/2009, Contact: Beth Peer 541-383-4769.

EIS No. 20090321, Final EIS, SFW, AK, Kenai National Wildlife Refuge Draft Revised Comprehensive Conservation Plan, Implementation, AK, Wait Period Ends: 10/19/2009, Contact: Peter Wikoff 907-786-3357.

EIS No. 20090322, Final EIS, AFS, ID, Salmon-Challis National Forest (SCNF), Proposes Travel Planning and OHV Route Designation, Lemhi, Custer and Butte Counties, ID, Wait Period Ends: 10/19/2009, Contact: Karen Gallogly 208-756-5103.

EIS No. 20090323, Draft EIS, FHW, NV, I-15 Corridor Improvement and Local Arterial Improvements Project, Collectively Known as Project NEON, To Improve the Safety and Travel Efficiency in the I-15 Corridor, City of Las Vegas, Clark County, NV, Comment Period Ends: 11/06/2009, Contact: Abdelmoez Abdalla 775-687-1204.

Amended Notices

EIS No. 20090225, Draft EIS, AFS, ND, North Billings County Allotment Management Plan Revisions, Proposes to Continue to Permit Livestock Grazing on 43 Allotments, Medora Ranger District, Dakota Prairie Grasslands, Billings County, ND, Comment Period Ends: 10/13/2009, Contact: Jeff Adams 701-227-7800. Revision to FR Notice Published 07/10/2009: Extending Comment Period from 08/24/2009 to 10/10/2009.

EIS No. 20090309, Final EIS, FTA, CO, East Corridor Project, Proposes Commuter Rail Transit from downtown Denver to International Airport (DIA), Denver, Adams, Arapahoe, Jefferson and Douglas Counties, CO, Wait Period Ends: 10/05/2009, Contact: David Beckhouse 720-963-3306. Revision to FR Notice Published 09/04/2009: Correction to the State from MO to CO.

EIS No. 20090316, Final EIS, FAA, 00, PROGRAMMATIC—Streamlining the Processing of Experimental Permit Applications, Issuing Experimental Permits for the Launch and Reentry of Useable Suborbital Rockets, Wait Period Ends: 10/13/2009, Contact: Daniel Czelusniak 202-267-5924. Revision to FR Notice Published 09/11/2009: Correction to Federal Agency from FTA to FAA.

EIS No. 20090318, Draft EIS, USA, WA, Fort Lewis Army Growth and Force Structures Realignment, Implementation, Fort Lewis and Yakima Training Center, Kittitas, Pierce, Thurston and Yakima Counties, WA, Comment Period Ends: 10/26/2009, Contact: B. Van Hoesen 253-966-1780. Revision to FR Notice Published 09/11/2009: Correction to Title.

Dated: September 15, 2009.
Robert W. Hargrove,
Director, NEPA Compliance Division, Office of Federal Activities.

[FR Doc. E9-22530 Filed 9-17-09; 8:45 am]

BILLING CODE 6560-50-P